DEPARTMENT OF ENERGY

Federal Energy Regulatory Commission

[Project No. 14398-000]

American River Power IX, LLC; Notice of Preliminary Permit Application Accepted for Filing and Soliciting Comments, Motions To Intervene, and Competing Applications

On April 30, 2012, American River Power IX, LLC filed an application for a preliminary permit, pursuant to section 4(f) of the Federal Power Act (FPA), proposing to study the feasibility of the Peoria Dam, Illinois—Hydroelectric Water Power Project (Peoria Dam Project or project) to be located at the U.S. Army Corps of Engineers' (Corps) Peoria Lock and Dam on the Illinois River, near Bartonsville, Peoria County, Illinois. The sole purpose of a preliminary permit, if issued, is to grant the permit holder priority to file a license application during the permit term. A preliminary permit does not authorize the permit holder to perform any land-disturbing activities or otherwise enter upon lands or waters owned by others without the owners' express permission.

The proposed project would consist of the following: (1) A concrete intake located on the Peoria County side of the Illinois River upstream of an existing retaining wall and facing 45 degrees to the existing dam; (2) a 120-foot-long, 50-foot-wide, 55-foot-high powerhouse containing two horizontal Kaplan pit turbines each with a rated capacity of 3.75 megawatts, and each coupled to a speed increaser and then coupled to a high speed generator; (3) a concrete tailrace releasing water into the river downstream of the dam; (4) a switchyard with a step-up transformer increasing the 4.16 kilovolts (kV) produced by the generators to 36.7 kV; (5) a 1,500-foot-long, 36.7-kV transmission line conveying the power from the switchyard to a point of interconnection with the local utility; and (6) appurtenant facilities. The project would occupy lands owned and administered by the Corps. The estimated annual generation of the Peoria Dam Project would be 32.5 gigawatt-hours.

Applicant Contact: Michael Skelly, Chairman/Manager, American River Power IX, LLC, 726 Eldridge Avenue, Collingswood, NJ 08107-1708; phone: (856) 240-0707 or mskelly@americanriverpower.com.

FERC Contact: Sergiu Serban; phone: (202) 502-6211 or sergiu.serban@ferc.gov.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14398) in the docket number field to access the document. For assistance, contact FERC Online Support.

Dated: June 1, 2012.
Kimberly D. Bose,
Secretary.

[FR Doc. 2012-13877 Filed 6-7-12; 8:45 am]

BILLING CODE 6717-01-P